DEPARTMENT OF COMMERCE

National Oceanic and Atmospheric Administration

50 CFR Part 679

[Docket No. 240304-0068; RTID 0648-XE626]

Fisheries of the Exclusive Economic Zone Off Alaska; Reallocation of Pollock in the Bering Sea and Aleutian Islands

AGENCY: National Marine Fisheries Service (NMFS), National Oceanic and Atmospheric Administration (NOAA), Commerce.

ACTION: Temporary rule; reallocation.

SUMMARY: NMFS is reallocating the projected unused amounts of the Aleut Corporation and the Community Development Quota (CDQ) pollock directed fishing allowance (DFA) from the Aleutian Islands subarea to the Bering Sea subarea. This action is necessary to provide the opportunity for the harvest of the 2025 total allowable catch (TAC) of pollock, consistent with the goals and objectives of the Fishery Management Plan for Groundfish of the Bering Sea and Aleutian Islands Management Area (BSAI).

DATES: Effective 1200 hours, Alaska local time (A.l.t.), March 10, 2025, through 2400 hours, A.l.t., December 31, 2025.

FOR FURTHER INFORMATION CONTACT: Steve Whitney, 907-586-7228.

SUPPLEMENTARY INFORMATION: NMFS manages the groundfish fishery in the BSAI exclusive economic zone according to the Fishery Management Plan for Groundfish of the Bering Sea and Aleutian Islands Management Area (FMP) prepared by the North Pacific Fishery Management Council (Council) under authority of the Magnuson-Stevens Fishery Conservation and Management Act (Magnuson-Stevens Act). Regulations governing fishing by U.S. vessels in accordance with the FMP appear at subpart H of 50 CFR parts 600 and 679.

In the Aleutian Islands subarea, the portion of the 2025 pollock TAC allocated to the Aleut Corporation and CDQ DFA is 14,100 metric tons (mt) and 1,900 mt, respectively, as established by the final 2024 and 2025 harvest specifications for groundfish in the BSAI (89 FR 17287, March 11, 2024), and inseason adjustment (89 FR 105478, December 27, 2024).

As of February 28, 2025, the Administrator, Alaska Region, NMFS, (Regional Administrator) has determined that 12,100 mt of the Aleut Corporation's DFA and 1,900 mt of pollock CDQ DFA in the Aleutian Islands subarea will not be harvested. Therefore, in accordance with § 679.20(a)(5)(iii)(B)(4), NMFS reallocates 12,100 mt of the Aleut Corporation's DFA and 1,900 mt of pollock CDQ DFA from the Aleutian Islands subarea to the Bering Sea subarea allocations. The 1,900 mt of pollock CDQ DFA is added to the 2025 Bering Sea CDQ DFA. The 12,100 mt of pollock Aleut Corporation's DFA is apportioned to the American Fisheries Act (AFA) inshore sector (50 percent), AFA catcher/processor (CP) sector (40 percent), and the AFA mothership sector (10 percent). The 2025 Bering Sea subarea pollock incidental catch allowance remains at 46,000 mt. As a result, the 2025 harvest specifications for pollock in the Aleutian Islands subarea included in the final 2024 and 2025 harvest specifications for groundfish in the BSAI (89 FR 17287, March 11, 2024), and inseason adjustment(89 FR 105478, December 27, 2024) are revised as follows: 0 mt to CDQ DFA and 2,000 mt to the Aleut Corporation's DFA. Furthermore, pursuant to § 679.20(a)(5), table 5 is revised to make 2025 pollock allocations consistent with this reallocation. This reallocation results in an adjustment to the 2025 CDQ pollock allocation established at § 679.20(a)(5).

Table 5—Final 2025 Allocations of Pollock TACs to the Directed Pollock Fisheries and to the CDQ Directed Fishing Allowances (DFA) ¹
[Amounts are in metric tons]
Area and sector | 2025 allocations | 2025 A season ¹: A season DFA | 2025 A season ¹: SCA harvest limit ² | 2025 B season ¹: B season DFA
Bering Sea subarea TAC ¹ | 1,387,100 | n/a | n/a | n/a
CDQ DFA | 139,400 | 62,730 | 39,032 | 76,670
ICA ¹ | 46,000 | n/a | n/a | n/a
Total Bering Sea non-CDQ DFA | 1,203,600 | 541,620 | 337,008 | 661,980
AFA Inshore | 601,800 | 270,810 | 168,504 | 330,990
AFA Catcher/Processors ³ | 481,440 | 216,648 | 134,803 | 264,792
Catch by CPs | 440,518 | 198,233 | n/a | 242,285
Catch by CVs ³ | 40,922 | 18,415 | n/a | 22,507
Unlisted CP Limit ⁴ | 2,407 | 1,083 | n/a | 1,324
AFA Motherships | 120,360 | 54,162 | 33,701 | 66,198
Excessive Harvesting Limit ⁵ | 210,298 | n/a | n/a | n/a
Excessive Processing Limit ⁶ | 361,080 | n/a | n/a | n/a
Aleutian Islands subarea ABC | 46,051 | n/a | n/a | n/a
Aleutian Islands subarea TAC ¹ | 5,000 | n/a | n/a | n/a
CDQ DFA |  |  | n/a |
ICA | 3,000 | 1,500 | n/a | 1,500
Aleut Corporation | 2,000 | 2,000 | n/a |
Area harvest limit ⁷ | n/a | n/a | n/a | n/a
541 | 13,815 | n/a | n/a | n/a
542 | 6,908 | n/a | n/a | n/a
543 | 2,303 | n/a | n/a | n/a
Bogoslof District ICA ⁸ | 250 | n/a | n/a | n/a
Note: Seasonal or sector apportionments may not total precisely due to rounding.
¹ Pursuant to § 679.20(a)(5)(i)(A), the Bering Sea subarea pollock TAC, after subtracting the CDQ DFA (10 percent) and the ICA (46,000 mt), is allocated as a DFA as follows: inshore sector—50 percent, catcher/processor sector (CP)—40 percent, and mothership sector—10 percent. In the Bering Sea subarea, 45 percent of the DFA and CDQ DFA are allocated to the A season (January 20-June 10) and 55 percent of the DFA and CDQ DFA are allocated to the B season (June 10-November 1). When the Aleutian Islands (AI) pollock ABC equals or exceeds 19,000 mt, the annual TAC is equal to 19,000 mt (§ 679.20(a)(5)(iii)(B)(1)). Pursuant to § 679.20(a)(5)(iii)(B)(2), the AI subarea pollock TAC, after subtracting first for the CDQ DFA (10 percent) and second for the ICA (3,000 mt), is allocated to the Aleut Corporation for a pollock directed fishery. In the AI subarea, the A season is allocated no more than 40 percent of the AI pollock ABC.
² In the Bering Sea subarea, pursuant to § 679.20(a)(5)(i)(C), no more than 28 percent of each sector's annual DFA may be taken from the SCA before noon, April 1. The SCA is defined at § 679.22(a)(7)(vii).
³ Pursuant to § 679.20(a)(5)(i)(A)(4), 8.5 percent of the allocation to listed CPs shall be available for harvest only by eligible catcher vessels with a CP endorsement delivering to listed CPs, unless there is a CP sector cooperative contract for the year.
⁴ Pursuant to § 679.20(a)(5)(i)(A)(4)(iii), the AFA unlisted CPs are limited to harvesting not more than 0.5 percent of the CP sector's allocation of pollock.
⁵ Pursuant to § 679.20(a)(5)(i)(A)(6), NMFS establishes an excessive harvesting share limit equal to 17.5 percent of the sum of the non-CDQ pollock DFAs.
⁶ Pursuant to § 679.20(a)(5)(i)(A)(7), NMFS establishes an excessive processing share limit equal to 30.0 percent of the sum of the non-CDQ pollock DFAs.
⁷ Pursuant to § 679.20(a)(5)(iii)(B)(6), NMFS establishes harvest limits for pollock in the A season in Area 541 of no more than 30 percent, in Area 542 of no more than 15 percent, and in Area 543 of no more than 5 percent of the AI pollock ABC.
⁸ Pursuant to § 679.22(a)(7)(B), the Bogoslof District is closed to directed fishing for pollock. The amounts specified are for incidental catch only and are not apportioned by season or sector.
Note: Seasonal or sector apportionments may not total precisely due to rounding.

Classification

NMFS issues this action pursuant to section 305(d) of the Magnuson-Stevens Act. This action is required by 50 CFR part 679, which was issued pursuant to section 304(b), and is exempt from review under Executive Order 12866.

Pursuant to 5 U.S.C. 553(b)(B), there is good cause to waive prior notice and an opportunity for public comment on this action, as notice and comment would be impracticable and contrary to the public interest, as it would prevent NMFS from responding to the most recent fisheries data in a timely fashion, and would delay the reallocation of Aleutian Islands pollock. NMFS was unable to publish a notice providing time for public comment because the most recent, relevant data only became available as of February 28, 2025.

The Assistant Administrator for Fisheries, NOAA also finds good cause to waive the 30-day delay in the effective date of this action under 5 U.S.C. 553(d)(3). This finding is based upon the reasons provided above for waiver of prior notice and opportunity for public comment.

Authority: 16 U.S.C. 1801 et seq.

Dated: March 3, 2025.
Karen H. Abrams,
Acting Director, Office of Sustainable Fisheries, National Marine Fisheries Service.

[FR Doc. 2025-03627 Filed 3-7-25; 8:45 am]

BILLING CODE 3510-22-P